FEDERAL COMMUNICATIONS COMMISSION

[OMB 3060-1030]

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before January 5, 2015. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the Supplementary Information section below.

FOR FURTHER INFORMATION CONTACT: For additional information or copies of the information collection, contact Cathy Williams at (202) 418-2918. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-1030.

Title: Service Rules for Advanced Wireless Services (AWS) in the 1.7 GHz and 2.1 GHz Bands.

Form Number: N/A.

Type of Review: Revision of a currently approved collection.

Respondents: Business or other for-profit entities; state, local, or tribal government; Federal Government and not for profit institutions.

Number of Respondents: 393 respondents; 83,505 responses.

Estimated Time per Response: 0.25 to 5 hours.

Frequency of Response: Annual, semi-annual, one time, and on occasion reporting requirements, recordkeeping requirement, third-party disclosure requirements, and every ten years reporting requirements.

Obligation To Respond: Required to obtain or retain benefits. The statutory authority for this collection is contained in sections 1, 2, 4(i), 201, 301, 302, 303, 307, 308, 309, 310, 316, 319, 324, 332, and 333 of the Communications Act of 1934, as amended, and sections 6003, 6004, and 6401 of the Middle Class Tax Relief Act of 2012, Public Law 112-96, 126 Stat. 156, 47 U.S.C. 151, 152, 154(i), 201, 301, 302(a), 303, 307, 308, 309, 310, 316, 319, 324, 332, 333, 1403, 1404, and 1451.

Total Annual Burden: 24,417 hours.

Total Annual Cost: $508,120.

Privacy Impact Assessment: No impact(s).

Nature and Extent of Confidentiality: There is no need for confidentiality with this collection of information.

Needs and Uses: The Commission seeks the Office of Management and Budget (“OMB”) approval for a revision to obtain the full three-year clearance for the requirements described below. We are revising the estimates of the currently approved information collections primarily to reflect the issuance of the AWS-3 Report and Order, FCC 14-31, whose information collection requirements for new spectrum bands would increase the number of respondents, responses, hourly burden, and annual costs associated with these bands. We are also updating prior estimates for other related spectrum bands. The following information collection requirements by AWS-3 applicants are not effective until approved by the Office of Management and Budget and apply to the following rule sections:

Section 27.14(k) and (s)—set forth performance requirements for AWS-3 licensees. Section 27.14(s) requires AWS-3 licensees to offer service to 40 percent of the population of their license areas within six years of licensing, and to 75 percent of the population within 12 years (accelerated to 10 years if the interim performance requirement is not met). These performance timeframes are different from those for AWS-4 due to the longer initial AWS-3 license terms (12 years versus 10 years for AWS-4). Section 27.14(k) requires AWS-3 licensees to demonstrate compliance with the performance requirements by filing construction notifications with the Commission within 15 days of the expiration of the applicable benchmark, certifying whether they meet the applicable performance requirements, and including a description and certification of the areas for which they are providing service. Construction notifications must include electronic coverage maps, supporting technical documentation, and any other information as the Wireless Telecommunications Bureau may prescribe by public notice.

Section 27.14(s)—requires AWS-3 licensees to make a “renewal showing” at the time of license renewal—independent of the performance requirements—as a condition of renewal. The showing must include a detailed description of the applicant's provision of service during the entire license period and address: (1) The level and quality of service provided by the applicant (e.g., the population served, the area served, the number of subscribers, the services offered); (2) the date service commenced, whether service was ever interrupted, and the duration of any interruption or outage; (3) the extent to which service is provided to rural areas; (4) the extent to which service is provided to qualifying tribal land as defined in § 1.2110(f)(3)(i); and (5) any other factors associated with the level of service to the public.

Section 27.17(c)—requires that an AWS-3 licensee that permanently discontinues service must notify the Commission of the discontinuance within 10 days by filing FCC Form 601 or 605 requesting license cancellation. It also provides that an authorization will automatically terminate, without specific Commission action, if service is permanently discontinued, even if a licensee fails to file the required form requesting license cancellation. Sections 27.17(a) and (b) define permanent discontinuation of service as 180 days during which a licensee does not provide service to at least one unaffiliated subscriber.

Section 27.50(d)(3)—requires that a licensee operating an AWS-3 base or fixed station utilizing a power greater than 1640 watts EIRP or 1640 watts/MHz EIRP must be coordinated in advance with the following licensees authorized to operate within 120 kilometers (75 miles) of the base or fixed station: All Broadband Radio Service (BRS) licensees authorized in the 2155-2160 MHz band, and all AWS licensees authorized to operate on adjacent frequency blocks in the 2110-2180 MHz band.

Section 27.1131—requires AWS-3 licensees, prior to initiating operations from any base or fixed station, to coordinate their frequency usage with incumbent co-channel and adjacent-channel fixed point-to-point microwave licensees operating in the 2110-2150 MHz and 2160-2200 MHz bands. If coordination does not resolve potential conflicts, an AWS licensee may undertake to relocate the FS stations under Part 101, Subpart B of the Commission's rules. Although AWS-1 licensees have relocated many FS legacy operations, AWS-3 licensees will likely have to relocate some remaining incumbents, resulting in disclosures described below. Under section 101.79 of the Commission's rules, these requirements will sunset ten years after the first AWS license is issued in the band.

Section 27.1132—requires AWS-3 licensees in the 2155-2160/62 MHz band to protect BRS stations from interference or to relocate them prior to initiating operations. Under section 27.1253 of the Commission's rules, these requirements will sunset fifteen years after the first AWS license is issued in the band.

Section 27.1134(c)—requires AWS-3 licensees to coordinate with Federal Government incumbents before commencing operations in the 1695-1710 MHz band. For transmitters operating with a maximum EIRP of 20 dBm, coordination is required inside 27 specific Protection Zones detailed in U.S. note 88 to section 2.106 of the Commission's rules and in the 2014 Joint PN. For higher-powered operations, § 27.1134(c) and U.S. note 88 to § 2.106 both require coordination nationwide unless otherwise specified by FCC rule, order, or notice. The 2014 Joint PN (see below) refined the nationwide default zone for higher-power operations by adding 27 Protection Zones (larger than the zones for operations up to 20 dBm, to account for the higher power).

Section 27.1134(f)—requires AWS-3 licensees to coordinate with Federal Government incumbents before commencing operations in the 1755-1780 MHz band. While the default coordination requirement for this band is nationwide, the 2014 Joint PN (see below) effectively reduced the scope of coordination to specific Protection Zones for many AWS-3 licensees that limit transmitter power to 20 dBm EIRP.

Federal Communications Commission.
Marlene H. Dortch,
Secretary, Office of the Secretary, Office of the Managing Director.

[FR Doc. 2014-28496 Filed 12-3-14; 8:45 am]

BILLING CODE 6712-01-P